INTERNATIONAL TRADE COMMISSION

[Investigation No. 337-TA-789]

Certain Digital Televisions and Components Thereof; Determination Not to Review Initial Determinations Terminating the Investigation as to Three Respondents; Termination of Investigation

AGENCY: U.S. International Trade Commission.

ACTION: Notice.

SUMMARY: Notice is hereby given that the U.S. International Trade Commission has determined not to review initial determinations (“IDs”) (Order Nos. 69, 70, and 71) granting joint motions to terminate the above-captioned investigation with respect to three respondents on the basis of settlement agreements. The investigation is terminated in its entirety.

FOR FURTHER INFORMATION CONTACT: Jia Chen, Office of the General Counsel, U.S. International Trade Commission, 500 E Street SW., Washington, DC 20436, telephone (202) 205-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 19, 2011, based on a complaint filed by Vizio Inc. of Irvine, California (“Vizio”). 76 FR 42728-29 (July 19, 2011). The complaint alleged violations of section 337 of the Tariff Act of 1930, as amended, 19 U.S.C. 1337, in the importation into the United States, the sale for importation, and the sale within the United States after importation of certain digital televisions and components thereof by reason of infringement of certain claims of United States Patent Nos. 5,511,096; 5,621,761; 5,703,887; 5,745,522; and 5,511,082. The notice of investigation named the following respondents: Coby Electronics Corp. (“Coby”) of Lake Success, NY; Curtis International LTD (“Curtis”) of Ontario, Canada; E&S International Enterprises, Inc. of Van Nuys, CA; MStar Semiconductor, Inc. of ChuPei Hsinchu Hsien, Taiwan; On Corp US, Inc. of San Diego, California; Renesas Electronics Corporation of Kanagawa, Japan, Renesas Electronics America, Inc. of Santa Clara, California; Sceptre Inc. (“Sceptre”) of City of Industry, California; and Westinghouse Digital, LLC of Orange, California. All respondents except for Coby, Curtis, and Sceptre have been terminated from the investigation.

On June 11, 2012, Vizio and respondent Sceptre filed a joint motion under Commission Rule 210.21(a)(2) to terminate the investigation on the basis of a settlement agreement that resolves their litigation. On the same day, Vizio and respondent Coby filed a joint motion under Commission Rule 210.21(a)(2) to terminate the investigation on the basis of a settlement agreement that resolves their litigation. On June 12, 2012, Vizio and Curtis filed a joint motion under Commission Rule 210.21(a)(2) to terminate the investigation on the basis of a settlement agreement that resolves their litigation. Public and confidential versions of the agreements were attached to the motions. The motions stated that there are no other agreements, written or oral, express or implied, between the parties concerning the subject matter of this investigation. The Commission investigative attorney supported the motions. On June 25, 2012, the ALJ issued Order No. 69 granting the joint motion filed by Vizio and Sceptre. On the same day, the ALJ issued Order No. 70 granting the joint motion filed by Vizio and Coby. On June 26, 2012, the ALJ issued Order No. 71 granting the joint motion filed by Vizio and Curtis and terminating the investigation in its entirety. The ALJ found that no extraordinary circumstances exist that would prevent the requested terminations and that the motions fully comply with Commission Rule 210.21. No petitions for review were received.

The Commission has determined not to review the subject IDs. The investigation is terminated in its entirety.

This action is taken under the authority of section 337 of the Tariff Act of 1930, as amended (19 U.S.C. 1337), and Part 210 of the Commission's Rules of Practice and Procedure (19 CFR Part 210).

By order of the Commission.
Issued: July 25, 2012.
Lisa R. Barton,
Acting Secretary to the Commission.

[FR Doc. 2012-18597 Filed 7-30-12; 8:45 am]

BILLING CODE 7020-02-P